DEPARTMENT OF TRANSPORTATION

Federal Aviation Administration

Public Notice for Waiver of Aeronautical Land-Use Assurance

AGENCY: Federal Aviation Administration (FAA), DOT.

ACTION: Notice of intent of waiver with respect to land; Cleveland Hopkins International, Cleveland, Ohio.

SUMMARY: The FAA is considering a proposal to change approximately 2.54 acres of airport land from aeronautical use to non-aeronautical use and to authorize the lease of airport property located at Cleveland Hopkins International, Cleveland, Ohio. The aforementioned land is not needed for aeronautical use.

The property is located near the northwest corner of Brook Park Road and Rocky River Drive, north of the airport and outside the airport fence line. The property is currently vacant land not being used by the airport and is flat, weedy, and grassy. The property will be leased for the development of a gas/service station.

DATES: Comments must be received on or before May 12, 2014.

ADDRESSES: Documents are available for review by appointment at the FAA Airports District Office, Marlon Peña, Program Manager, Detroit Airport District Office, 11677 South Wayne Road, Suite 107, Romulus, Michigan 48174, Telephone: (734) 229-2909/Fax: (734) 229-2950 and Cleveland Hopkins International Airport, 5300 Riverside Drive, Cleveland, Ohio 44181, Telephone: (216) 265-6793.

Written comments on the Sponsor's request must be delivered or mailed to: Marlon Peña, Program Manager, Federal Aviation Administration, Airports District Office, Detroit Airport District Office, 11677 South Wayne Road, Suite 107, Romulus, Michigan 48174, Telephone Number: (734) 229-2909/FAX Number: (734) 229-2950.

FOR FURTHER INFORMATION CONTACT: Marlon Peña, Program Manager, Federal Aviation Administration, Airports District Office, Detroit Airport District Office, 11677 South Wayne Road, Suite 107, Romulus, Michigan 48174. Telephone Number: (734) 229-2909/FAX Number: (734) 229-2950.

SUPPLEMENTARY INFORMATION: In accordance with section 47107(h) of Title 49, United States Code, this notice is required to be published in the Federal Register 30 days before modifying the land-use assurance that requires the property to be used for an aeronautical purpose.

The property was originally acquired by the City of Cleveland for potential airport development. The Federal Aviation Administration did not participate in the acquisition of this property. The U.S. Government did not convey the property or transfer under surplus property. The sponsor is now proposing to lease this parcel for Fair Market Value and utilize the proceeds to help improve the existing airport infrastructure and bring it up to FAA standards.

The disposition of proceeds from the lease of the airport property will be in accordance with FAA's Policy and Procedures Concerning the Use of Airport Revenue, published in the Federal Register on February 16, 1999 (64 FR 7696). This notice announces that the FAA is considering the release of the subject airport property at the Cleveland Hopkins International, Cleveland, Ohio from its obligations to be maintained for aeronautical purposes. Approval does not constitute a commitment by the FAA to financially assist in the disposal of the subject airport property nor a determination of eligibility for grant-in-aid funding from the FAA.

Following is a legal description of the property located in the City of Cleveland, County of Cuyahoga, State of Ohio, and known as being part of Original Rockport Section and described as follows:

PARCEL NO. 1

SITUATED IN THE CITY OF CLEVELAND, COUNTY OF CUYAHOGA, AND STATE OF OHIO: AND KNOWN AS BEING PART OF ORIGINAL ROCKPORT TOWNSHIP SECTIONS NOS. 3 AND 4, AND ALL OF SUBLOTS NOS. 1, 2, 3, 149, 150, 151 AND 152 IN WEST LAWN SUBDIVISION OF PART OF ORIGINAL ROCKPORT TOWNSHIP SECTIONS NOS. 3 AND 4, AS SHOWN BY THE RECORDED PLAT IN VOLUME 70 OF MAPS, PAGE 28 OF CUYAHOGA COUNTY RECORDS, AND TOGETHER FORMING A PARCEL OF LAND BOUNDED AND DESCRIBED AS FOLLOWS: BEGINNING IN THE NORTHWESTERLY LINE OF ROCKY RIVER DRIVE SW., (70 FEET WIDE), AT ITS INTERSECTION WITH THE SOUTHERLY LINE OF WEST LAWN ROAD SW.; THENCE SOUTHWESTERLY ALONG THE NORTHWESTERLY LINE OF SAID ROCKY RIVER DRIVE SW., 148.27 FEET TO THE SOUTHEASTERLY CORNER OF SAID SUBLOT NO. 1; THENCE EASTERLY ALONG THE EASTERLY PROLONGATION OF THE SOUTHERLY LINE OF SAID SUBLOT NO. 1, 38.49 FEET TO THE CENTER LINE OF SAID ROCKY RIVER DRIVE SW.; THENCE SOUTHWESTERLY ALONG SAID CENTER LINE, 137.46 FEET TO THE SOUTHERLY LINE OF SAID ORIGINAL SECTION NO. 3, WHICH IS ALSO THE OLD CENTER LINE OF BROOKPARK ROAD, SW., (30 FEET WIDE); THENCE WESTERLY ALONG THE OLD CENTER LINE OF BROOKPARK ROAD SW., 319.87 FEET TO ITS INTERSECTION WITH THE SOUTHERLY PROLONGATION OF THE EASTERLY LINE OF SUBLOT NO. 153 IN THE WEST LAWN SUBDIVISION AS AFORESAID; THENCE NORTHERLY ALONG SAID SOUTHERLY PROLONGATION AND ALONG THE EASTERLY OF LINE OF SAID SUBLOT NO. 153, 125 FEET TO THE SOUTHWESTERLY CORNER OF SUBLOT NO. 147 IN SAID WEST LAWN SUBDIVISION; THENCE EASTERLY ALONG THE SOUTHERLY LINES OF SUBLOTS NOS. 147 AND 148 IN SAID WEST LAWN SUBDIVISION, 82.83 FEET TO THE SOUTHWESTERLY CORNER OF SAID SUBLOT NO. 149; THENCE NORTHERLY ALONG THE WESTERLY LINE OF SAID SUBLOT NO. 149, 134.82 FEET TO THE SOUTHERLY LINE OF SAID WEST LAWN ROAD SW.; THENCE EASTERLY ALONG SAID SOUTHERLY LINE, 317.42 FEET TO THE PLACE OF BEGINNING, EXCEPTING THEREFROM THE PART OF PREMISES DESCRIBED ABOVE DEDICATED TO PUBLIC USE AS A PART OF BROOKPARK ROAD AS SHOWN ON THE PLAT OF DEDICATION OF BROOKPARK ROAD IN VOLUME 127 OF MAPS, PAGE 29 OF CUYAHOGA COUNTY RECORDS. EXCEPTING THEREFROM THAT PART CONVEYED TO THE STATE OF OHIO BY DEED DATED DECEMBER 28, 1978 AND FILED IN VOLUME 14895, PAGE 765 OF CUYAHOGA COUNTY RECORDS.

PARCEL NO. 2

SITUATED IN THE CITY OF CLEVELAND, COUNTY OF CUYAHOGA AND STATE OF OHIO: AND KNOWN AS BEING ALL OF SUBLOT NO. 153 IN THE VAN DE BOE HAGER COMPANY'S WEST LAWN SUBDIVISION OF PART OF ORIGINAL ROCKPORT TOWNSHIP SECTIONS 3 AND 4 AS RECORDED IN VOLUME 70, PAGE 28 OF CUYAHOGA COUNTY MAP RECORDS; SAID SUBLOT HAVING A FRONTAGE OF 73.67 FEET ON THE NORTHERLY SIDE OF BROOK PARK ROAD SW., AND EXTENDING BACK BETWEEN PARALLEL LINES OF EQUAL DEPTH 117.82 FEET AND HAVING A REAR LINE OF 73.67 FEET.

PARCEL NO. 3

SITUATED IN THE CITY OF CLEVELAND, COUNTY OF CUYAHOGA AND STATE OF OHIO: AND KNOWN AS BEING ALL OF SUBLOT NO. 148 AND PART OF SUBLOT NO. 147 IN THE VAN DEBOE HAGER COMPANY'S WEST LAWN SUBDIVISION OF PART OF ORIGINAL ROCKPORT TOWNSHIP SECTIONS NOS. 3 AND 4 AS RECORDED IN VOLUME 70, PAGE 28 OF CUYAHOGA COUNTY MAP RECORDS AND BOUNDED AND DESCRIBED AS FOLLOWS: BEGINNING IN THE SOUTHERLY LINE OF WEST LAWN AVENUE SW., (45 FEET WIDE) AT ITS INTERSECTION WITH THE EASTERLY LINE OF SAID SUBLOT NO. 148; THENCE WESTERLY ALONG SAID SOUTHERLY LINE 40.00 FEET TO THE EASTERLY LINE OF SAID SUBLOT NO. 147; THENCE S. 13°39′42″ W. 21.00 FEET TO A POINT; THENCE S. 3°29′25″ W. 91.00 FEET TO A POINT; THENCE SOUTHERLY PARALLEL WITH SAID EASTERLY LINE OF SUBLOT NO. 147, 23.58 FEET TO THE SOUTHERLY LINE THEREOF; THENCE EASTERLY ALONG SAID SOUTHERLY LINE AND THE SOUTHERLY LINE OF SUBLOT NO. 148, 50.50 FEET TO THE AFORESAID EASTERLY LINE OF SUBLOT NO. 148; THENCE NORTHERLY ALONG SAID EASTERLY LINE, 134.82 FEET TO THE PLACE OF BEGINNING. EXCEPTING THEREFROM THE ABOVE DESCRIBED PREMISES THE PROPERTY CONVEYED TO THE STATE OF OHIO BY DEED DATED 1/20/1970 AND RECORDED 1/21/1970 IN VOLUME 12585, PAGE 339 OF CUYAHOGA COUNTY RECORDS.

PARCEL NO. 4

SITUATED IN THE CITY OF CLEVELAND, COUNTY OF CUYAHOGA AND STATE OF OHIO: AND KNOWN AS BEING PART OF SUBLOT NO. 147 IN THE VAN DEBOE HAGER COMPANY'S WEST LAWN SUBDIVISION OF PART OF ORIGINAL ROCKPORT TOWNSHIP SECTIONS NOS. 3 AND 4 AS RECORDED IN VOLUME 70, PAGE 28 OF CUYAHOGA COUNTY MAP RECORDS AND BOUNDED AND DESCRIBED AS FOLLOWS: BEGINNING IN THE SOUTHERLY LINE OF WEST LAWN AVENUE SW., (45 FEET WIDE) AT ITS INTERSECTION WITH THE WESTERLY LINE OF SAID SUBLOT NO. 147; THENCE EASTERLY ALONG SAID SOUTHERLY LINE OF WEST LAWN AVENUE 40.00 FEET TO THE EASTERLY LINE THEREOF; THENCE S. 13°39′42″ W. 21.00 FEET TO A POINT; THENCE S. 3°29′25″ W. 91.00 FEET TO A POINT; THENCE SOUTHERLY PARALLEL WITH SAID EASTERLY LINE OF SUBLOT NO. 147, 23.58 FEET TO A POINT IN THE SOUTHERLY LINE THEREOF; THENCE WESTERLY ALONG SAID SOUTHERLY LINE 32.33 FEET TO A WESTERLY LINE THEREOF; THENCE NORTHERLY ALONG SAID WESTERLY LINE 22.82 FEET TO AN ANGLE POINT THEREIN; THENCE EASTERLY AT RIGHT ANGLES TO SAID LAST DESCRIBED COURSE 2.83 FEET TO THE WESTERLY LINE OF SAID SUBLOT NO. 147; THENCE NORTHERLY ALONG SAID WESTERLY LINE 112.00 FEET TO THE PLACE OF BEGINNING. EXCEPTING THEREFROM THE ABOVE DESCRIBED PREMISES, THAT PORTION OF THE PROPERTY CONVEYED TO THE STATE OF OHIO BY DEED DATED 1/20/1970 AND RECORDED 1/21/1970 IN VOL. 12585, PG. 339 OF CUYAHOGA COUNTY RECORDS.

PARCEL NO. 5

SITUATED IN THE CITY OF CLEVELAND, COUNTY OF CUYAHOGA AND STATE OF OHIO: AND KNOWN BEING ALL OF SUBLOT NO. 146 IN THE VAN DEBOE HAGER COMPANY'S WEST LAWN SUBDIVISION OF PART OF ORIGINAL ROCKPORT TOWNSHIP SECTIONS NOS. 3 AND 4, AS RECORDED IN VOLUME 70, PAGE 28 OF CUYAHOGA COUNTY MAP RECORDS; SAID SUBLOT HAVING A FRONTAGE OF 40.00 FEET ON THE SOUTHERLY SIDE OF WEST LAWN AVE. SW., (45 FEET WIDE) A EXTENDING BACK BETWEEN PARALLEL LINES OF EQUAL DEPTH 112.00 FEET. EXCEPTING THEREFROM THE ABOVE DESCRIBED PREMISES, THAT PORTION OF THE PROPERTY CONVEYED TO THE STATE OF OHIO BY DEED DATED 1/20/1970 AND RECORDED 1/21/1970 IN VOL. 12585, PAGE 339 OF CUYAHOGA COUNTY RECORDS.

PARCEL NO. 6

SITUATED IN THE CITY OF CLEVELAND, COUNTY OF CUYAHOGA AND STATE OF OHIO: AND KNOWN AS BEING ALL OF SUBLOT NO. 145 IN THE VAN DEBOE HAGER COMPANY'S WEST LAWN SUBDIVISION OF PART OF ORIGINAL ROCKPORT TOWNSHIP SECTIONS 3 AND 4 AS RECORDED IN VOLUME 70, PAGE 28 OF CUYAHOGA COUNTY MAP RECORDS; SAID SUBLOT HAVING A FRONTAGE OF 40.00 FEET ON THE SOUTHERLY SIDE OF WEST LAWN AVENUE SW., AND EXTENDING BACK BETWEEN PARALLEL LINES OF EQUAL DEPTH 112.00 FEET AND HAVING A REAR LINE OF 40.00 FEET. EXCEPTING THEREFROM THE ABOVE DESCRIBED PREMISES, THAT PORTION OF THE PROPERTY CONVEYED TO THE STATE OF OHIO BY DEED DATED 1/20/1970 AND RECORDED 1/21/1970 IN VOL. 12585, PAGE 339 OF CUYAHOGA COUNTY RECORDS.

PARCEL NO. 7

SITUATED IN THE CITY OF CLEVELAND, COUNTY OF CUYAHOGA AND STATE OF OHIO: AND KNOWN AS BEING ALL OF SUBLOT NO. 144 IN THE VAN DEBOE HAGER COMPANY'S SUBDIVISION OF PART OF ORIGINAL ROCKPORT TOWNSHIP SECTIONS 3 AND 4 AS RECORDED IN VOLUME 70, PAGE 28 OF CUYAHOGA COUNTY MAP RECORDS; SAID SUBLOT HAVING A FRONTAGE OF 40.00 FEET ON THE SOUTHERLY SIDE OF WEST LAWN AVENUE SW., AND EXTENDING BACK BETWEEN PARALLEL LINES OF EQUAL DEPTH 112.00 FEET AND HAVING A REAR LINE OF 40.00 FEET. EXCEPTING THEREFROM THE ABOVE DESCRIBED PREMISES, THAT PORTION OF THE PROPERTY CONVEYED TO THE STATE OF OHIO BY DEED DATED 1/20/1970 AND RECORDED 1/21/1970 IN VOL. 12585, PAGE 339 OF CUYAHOGA COUNTY RECORDS.

PARCEL NO. 8

SITUATED IN THE CITY OF CLEVELAND, COUNTY OF CUYAHOGA AND STATE OF OHIO: AND KNOWN AS BEING ALL OF SUBLOT NOS. 140, 141, 142 AND 143 IN THE VAN DE-BOE HAGER COMPANY'S WEST LAWN SUBDIVISION OF PART OF ORIGINAL ROCKPORT TOWNSHIP, SECTIONS 3 AND 4, AS RECORDED IN VOLUME 70, PAGE 28 OF CUYAHOGA COUNTY MAP RECORDS; SAID SUBLOTS HAVING A FRONTAGE OF 160.00 FEET ON THE SOUTHERLY SIDE OF WEST LAWN AVENUE SW., AND EXTENDING BACK BETWEEN PARALLEL LINES OF EQUAL DEPTH 112.00 FEET AND HAVING A REAR LINE OF 160.00 FEET. EXCEPTING THEREFROM THE ABOVE DESCRIBED PREMISES, THAT PORTION OF THE PROPERTY CONVEYED TO THE STATE OF OHIO BY DEED DATED 1/20/1970 AND RECORDED IN VOL. 12585, PAGE 339 OF CUYAHOGA COUNTY RECORDS.

PARCEL NO. 9

SITUATED IN THE CITY OF CLEVELAND, COUNTY OF CUYAHOGA AND STATE OF OHIO: AND KNOWN AS BEING ALL OF SUBLOT NO. 139 IN THE VAN DE-BOE HAGER COMPANY'S WEST LAWN SUBDIVISION OF PART OF ORIGINAL ROCKPORT TOWNSHIP, SECTIONS 3 AND 4, AS RECORDED IN VOLUME 70, PAGE 28 OF CUYAHOGA COUNTY MAP RECORDS; SAID SUBLOT HAVING A FRONTAGE OF 45.00 FEET ON THE SOUTHERLY SIDE OF WEST LAWN AVENUE SW., AND EXTENDING BACK BETWEEN PARALLEL LINES OF EQUAL DEPTH 112.00 FEET AND HAVING A REAR LINE OF 45.00 FEET. EXCEPTING THEREFROM THE ABOVE DESCRIBED PREMISES, THAT PORTION OF THE PROPERTY CONVEYED TO THE STATE OF OHIO BY DEED DATED 1/20/1970 AND RECORDED 1/21/1970 IN VOL. 12585, PAGE 339 OF CUYAHOGA COUNTY RECORDS.

PARCEL NO. 10

SITUATED IN THE CITY OF CLEVELAND, COUNTY OF CUYAHOGA AND STATE OF OHIO: AND KNOWN AS BEING ALL OF SUBLOT NO. 138 IN THE VAN DEBOE HAGER COMPANY'S WEST LAWN SUBDIVISION OF PART OF ORIGINAL ROCKPORT TOWNSHIP, SECTIONS 3 AND 4, AS RECORDED IN VOLUME 70, PAGE 28 OF CUYAHOGA COUNTY MAP RECORDS; SAID SUBLOT HAVING A FRONTAGE OF 45.00 FEET ON THE SOUTHERLY SIDE OF WEST LAWN AVENUE SW., AND EXTENDING BACK BETWEEN PARALLEL LINES OF EQUAL DEPTH 112.00 FEET; THE EASTERLY LINE OF SAID SUBLOT BEING ALSO THE WESTERLY LINE OF WEST 191ST STREET.

PARCEL NO. 11

SITUATED IN THE CITY OF CLEVELAND, COUNTY OF CUYAHOGA AND STATE OF OHIO: AND KNOWN AS BEING ALL OF SUBLOT NOS. 25, 26, 27, 28, 29, 30, 35, 36, 130, 131, 135, AND 137 IN THE VAN DE-BOE HAGER COMPANY'S WEST LAWN SUBDIVISION OF PART OF ORIGINAL ROCKPORT TOWNSHIP, SECTIONS 3 AND 4, AS RECORDED IN VOLUME 70, PAGE 28 OF CUYAHOGA COUNTY MAP RECORDS; SAID SUBLOTS NOS. 25, 26, 27, 28, 29, 30, 35, 36, EACH HAVING A FRONTAGE OF 40.00 FEET ON THE NORTHERLY SIDE OF WEST LAWN AVENUE, SW. AND EXTENDING BACK BETWEEN PARALLEL LINES OF EQUAL DEPTH 112.00 FEET AND EACH HAVING A REAR LINE OF 40.00 FEET; SAID SUBLOTS NOS. 130, 131 AND 135 EACH HAVING A FRONTAGE OF 40.00 FEET ON THE SOUTHERLY SIDE OF WEST LAWN AVENUE SW., AND EXTENDING BACK BETWEEN PARALLEL LINES OF EQUAL DEPTH 112.00 FEET AND EACH HAVING A REAR LINE OF 40.00 FEET; SAID SUBLOT NO. 137 HAVING A FRONTAGE OF 45.00 FEET ON THE SOUTHERLY SIDE OF WEST LAWN AVENUE SW. AND EXTENDING BACK BETWEEN PARALLEL LINES OF EQUAL DEPTH 112.00 FEET AND HAVING A REAR LINE OF 45.00 EET. EXCEPTING THEREFROM THE ABOVE DESCRIBED PREMISES, THAT PORTION OF THE PROPERTY CONVEYED TO THE STATE OF OHIO BY DEED DATED 1/20/1970 AND RECORDED 1/21/1970 IN VOL. 12585, PAGE 339 OF CUYAHOGA COUNTY RECORDS.

PARCEL NO. 12

SITUATED IN THE CITY OF CLEVELAND, COUNTY OF CUYAHOGA AND STATE OF OHIO, AND KNOWN AS BEING SUBLOT NO. 136 IN WEST LAWN SUBDIVISION OF PART OF ORIGINAL ROCKPORT TOWNSHIP SECTIONS NOS. 3 AND 4, AS SHOWN BY THE RECORDED PLAT IN VOLUME 70 OF MAPS, PAGE 28 OF CUYAHOGA COUNTY RECORDS, AND BEING 45.00 FEET FRONT ON THE SOUTHERLY SIDE OF WEST LAWN ROAD, (NOW KNOWN AS WEST LAWN AVENUE SW.), AND EXTENDING BACK OF EQUAL WIDTH 112.00 FEET DEEP, AS APPEARS BY SAID PLAT.

PARCEL NO. 13

SITUATED IN THE CITY OF CLEVELAND, COUNTY OF CUYAHOGA AND STATE OF OHIO: AND KNOWN AS BEING ALL OF SUBLOT NO. 134 IN THE VAN DE BOE-HAGER COMPANY'S WEST LAWN SUBDIVISION OF PART OF ORIGINAL ROCKPORT TOWNSHIP SECTIONS 3 AND 4, AS RECORDED IN VOLUME 70, PAGE 28 OF CUYAHOGA COUNTY MAP RECORDS; SAID SUBLOT NO. 134 HAVING A FRONTAGE OF 40.00 FEET ON THE SOUTHERLY SIDE OF WEST LAWN AVE., SW., AND EXTENDING BACK BETWEEN PARALLEL LINES OF EQUAL DEPTH 112.00 FEET AND HAVING A REAR LINE OF 40.00 FEET.

PARCEL NO. 14

SITUATED IN THE CITY OF CLEVELAND, COUNTY OF CUYAHOGA AND STATE OF OHIO: AND KNOWN AS BEING SUBLOTS NOS. 132 AND 133 ON WEST LAWN AVENUE IN THE WEST LAWN SUBDIVISION OF PART OF ORIGINAL ROCKPORT TOWNSHIP, SECTION NO. 3 & 4, AS APPEARS BY SAID PLAT RECORDED IN VOLUME 70 OF MAPS, PAGE 28 OF CUYAHOGA COUNTY RECORDS.

PARCEL NO. 15

SITUATED IN THE CITY OF CLEVELAND, COUNTY OF CUYAHOGA AND STATE OF OHIO: AND KNOWN AS BEING ALL OF SUBLOTS NOS. 128 AND 129 IN THE VAN DEBOE HAGER COMPANY'S WEST LAWN SUBDIVISION OF PART OF ORIGINAL ROCKPORT TOWNSHIP SECTIONS 3 AND 4 AS RECORDED IN VOLUME 70, PAGE 28 OF CUYAHOGA COUNTY MAP RECORDS; SAID SUBLOTS TOGETHER FORMING A PARCEL OF LAND HAVING A FRONTAGE OF 80.00 FEET ON THE SOUTHERLY SIDE OF WEST LAWN AVENUE SW., AND EXTENDING BACK BETWEEN PARALLEL LINES OF EQUAL DEPTH 112.00 FEET AND HAVING A REAR LINE OF 80.00 FEET.

PARCEL NO. 16

SITUATED IN THE CITY OF CLEVELAND, COUNTY OF CUYAHOGA AND STATE OF OHIO: AND KNOWN AS BEING ALL OF SUBLOTS NOS. 126 AND 127 IN THE VAN DE BOE HAGER COMPANY'S WEST LAWN SUBDIVISION OF PART OF ORIGINAL ROCKPORT TOWNSHIP SECTIONS 3 AND 4 AS RECORDED IN VOLUME 70, PAGE 28 OF CUYAHOGA COUNTY MAP RECORDS; SAID SUBLOTS TOGETHER FORMING A PARCEL OF LAND HAVING A FRONTAGE OF 80.00 FEET ON THE SOUTHERLY LINE OF WEST LAWN AVENUE SW., AND EXTENDING BACK BETWEEN PARALLEL LINES OF EQUAL DEPTH 112.00 FEET AND HAVING A REAR LINE OF 80.00 FEET.

PARCEL NO. 17

SITUATED IN THE CITY OF CLEVELAND, COUNTY OF CUYAHOGA AND STATE OF OHIO: AND KNOWN AS BEING SUBLOT NO. 125, IN THE VAN DE BOE-HAGER COMPANY'S “WEST LAWN” SUBDIVISION OF PART OF ORIGINAL ROCKPORT TOWNSHIP SECTIONS NOS. 3 AND 4, AS SHOWN BY THE RECORDED PLAT IN VOLUME 70 OF MAPS, PAGE 28 OF CUYAHOGA COUNTY RECORDS.

PARCEL NO. 18

SITUATED IN THE CITY OF CLEVELAND, COUNTY OF CUYAHOGA AND STATE OF OHIO: AND KNOWN AS BEING ALL OF SUBLOTS NOS. 124 AND 174 IN THE VAN DE BOE-HAGER COMPANY'S WEST LAWN SUBDIVISION OF PART OF ORIGINAL ROCKPORT TOWNSHIP SECTIONS 3 AND 4, AS RECORDED IN VOLUME 70, PAGE 28 OF CUYAHOGA COUNTY MAP RECORDS; SAID SUBLOT NO. 124 HAVING A FRONTAGE OF 40.00 FEET ON THE SOUTHERLY SIDE OF WEST LAWN AVENUE SW., AND EXTENDING BACK BETWEEN PARALLEL LINES OF EQUAL DEPTH, 112.00 FEET AND HAVING A REAR LINE OF 40.00 FEET; SAID SUBLOT NO. 174 HAVING A FRONTAGE OF 40.00 FEET ON THE NORTHERLY SIDE OF BROOKPARK ROAD SW., AND EXTENDING BACK BETWEEN PARALLEL LINES OF EQUAL DEPTH, 117.82 FEET AND HAVING A REAR LINE OF 40.00 FEET.

PARCEL NO. 19

SITUATED IN THE CITY OF CLEVELAND, COUNTY OF CUYAHOGA AND STATE OF OHIO: AND KNOWN AS BEING ALL OF SUBLOT NO. 173 IN THE VAN DE BOE-HAGER COMPANY'S WEST LAWN SUBDIVISION OF PART OF ORIGINAL ROCKPORT TOWNSHIP SECTIONS 3 AND 4, AS RECORDED IN VOLUME 70, PAGE 28 OF CUYAHOGA COUNTY MAP RECORDS; SAID SUBLOT HAVING A FRONTAGE OF 40.00 FEET ON THE NORTHERLY SIDE OF BROOK PARK ROAD SW., AND EXTENDING BACK BETWEEN PARALLEL LINES OF EQUAL DEPTH, 117.82 FEET AND HAVING A REAR LINE OF 40.00 FEET.

PARCEL NO. 20

SITUATED IN THE CITY OF CLEVELAND, COUNTY OF CUYAHOGA AND STATE OF OHIO: AND KNOWN AS BEING SUB LOT NOS. 171 AND 172 IN WEST LAWN SUBDIVISION OF PART OF ORIGINAL ROCKPORT TOWNSHIP SECTIONS NOS. 3 & 4, AS SHOWN BY THE RECORDED PLAT IN VOLUME 70 OF MAPS, PAGE 28 OF CUYAHOGA COUNTY MAP RECORDS.

PARCEL NO. 21

SITUATED IN THE CITY OF CLEVELAND, COUNTY OF CUYAHOGA AND STATE OF OHIO: AND KNOWN AS BEING ALL OF SUBLOTS NOS. 169 AND 170 IN THE VAN DEBOE HAGER COMPANY'S WEST LAWN SUBDIVISION OF PART OF ORIGINAL ROCKPORT TOWNSHIP SECTIONS 3 AND 4 AS RECORDED IN VOLUME 70, PAGE 28 OF CUYAHOGA COUNTY MAP RECORDS; SAID SUBLOTS TOGETHER FORMING A PARCEL OF LAND HAVING A FRONTAGE OF 80.00 FEET ON THE NORTHERLY SIDE OF BROOK PARK ROAD, SW. AND EXTENDING BACK BETWEEN PARALLEL LINES OF EQUAL DEPTH 117.82 FEET AND HAVING A REAR LINE OF 80.00 FEET.

PARCEL NO. 22

SITUATED IN THE CITY OF CLEVELAND, COUNTY OF CUYAHOGA AND STATE OF OHIO, AND KNOWN AS BEING SUBLOT NOS. 167 AND 168 IN THE WEST LAWN SUBDIVISION OF PART OF ORIGINAL ROCKPORT TOWNSHIP, SECTIONS NOS. 3 & 4, AS SHOWN BY THE RECORDED PLAT IN VOLUME 70 OF MAPS, PAGE 28 OF CUYAHOGA COUNTY MAP RECORDS.

PARCEL NO. 23

SITUATED IN THE CITY OF CLEVELAND, COUNTY OF CUYAHOGA AND STATE OF OHIO: AND KNOWN AS BEING SUB-LOTS NOS. 165 AND 166, IN THE VAN DE BOE-HAGER COMPANY'S WEST LAWN SUBDIVISION OF PART OF ORIGINAL ROCKPORT TOWNSHIP, SECTIONS 3 AND 4, AS RECORDED IN VOLUME 70, PAGE 28 OF THE CUYAHOGA COUNTY MAP RECORDS; TOGETHER FORMING A PARCEL OF LAND HAVING A FRONTAGE OF 80.00 FEET ON THE NORTHERLY SIDE OF BROOKPARK ROAD SW., AND EXTENDING BACK BETWEEN PARALLEL LINES OF EQUAL DEPTH 117.82 FEET AND HAVING A REAR LINE OF 80.00 FEET.

PARCEL NO. 24

SITUATED IN THE CITY OF CLEVELAND, COUNTY OF CUYAHOGA AND STATE OF OHIO: AND KNOWN AS BEING ALL OF SUBLOT NO. 164 IN THE VAN DEBOE HAGER COMPANY'S WEST LAWN SUBDIVISION OF PART OF ORIGINAL ROCKPORT TOWNSHIP SECTIONS 3 AND 4 AS RECORDED IN VOLUME 70, PAGE 28 OF CUYAHOGA COUNTY MAP RECORDS; SAID SUBLOT HAVING A FRONTAGE OF 40.00 FEET ON THE NORTHERLY SIDE OF BROOK PARK ROAD SW., AND EXTENDING BACK BETWEEN PARALLEL LINES OF EQUAL DEPTH 117.82 FEET AND HAVING A REAR LINE OF 40.00 FEET.

PARCEL NO. 25

SITUATED IN THE CITY OF CLEVELAND, COUNTY OF CUYAHOGA AND STATE OF OHIO: AND KNOWN AS BEING SUBLOT NO. 163 IN THE WEST LAWN SUBDIVISION OF PART OF ORIGINAL ROCKPORT TOWNSHIP SECTIONS NOS. 3 AND 4 AS SHOWN BY THE RECORDED IN VOLUME 70 OF MAPS, PAGE 28 OF CUYAHOGA COUNTY RECORDS, AND 40 FEET FRONT ON THE NORTHERLY SIDE OF BROOKPARK ROAD AND EXTENDING BACK BETWEEN PARALLEL LINES 117.82 FEET, AS APPEARS BY SAID PLAT.

PARCEL NO. 26

SITUATED IN THE CITY OF CLEVELAND, COUNTY OF CUYAHOGA AND STATE OF OHIO: AND KNOWN AS BEING SUBLOT NO. 162 IN THE VAN DEBOE HAGER COMPANY'S WEST LAWN SUBDIVISION OF PART OF ORIGINAL ROCKPORT TOWNSHIP SECTIONS 3 AND 4 AS RECORDED IN VOLUME 70, PAGE 28 OF CUYAHOGA COUNTY RECORDS; SAID SUBLOT HAVING A FRONT AGE OF 45.00 FEET ON THE NORTHERLY SIDE OF BROOK PARK ROAD SW., AND EXTENDING BACK BETWEEN PARALLEL LINES OF EQUAL DEPTH 117.82 FEET AND HAVING A REAR LINE OF 45.00 FEET.

PARCEL NO. 27

SITUATED IN THE CITY OF CLEVELAND, COUNTY OF CUYAHOGA AND STATE OF OHIO: AND KNOWN AS BEING ALL OF SUB LOTS NOS. 160 AND 161 IN THE VAN DEBOE-HAGER COMPANY'S WEST LAWN SUBDIVISION OF PART OF ORIGINAL ROCKPORT TOWNSHIP SECTIONS 3 AND 4 AS RECORDED IN VOLUME 70, PAGE 28 OF CUYAHOGA COUNTY RECORDS, SAID SUBLOTS TOGETHER FORMING A PARCEL OF LAND HAVING FRONTAGE OF 90.00 FEET ON THE NORTHERLY SIDE OF BROOKPARK ROAD SW. AND EXTENDING BACK BETWEEN PARALLEL LINES OF EQUAL DEPTH 117.82 FEET AND HAVING A REAR LINE OF 90.00 FEET.

PARCEL NO. 28

SITUATED IN THE CITY OF CLEVELAND, COUNTY OF CUYAHOGA AND STATE OF OHIO: AND KNOWN AS BEING ALL OF SUBLOTS NOS. 158 AND 159 IN THE VAN DEBOE HAGER COMPANY'S WEST LAWN SUBDIVISION, OF PART OF ORIGINAL ROCKPORT TOWNSHIP SECTIONS 3 AND 4, AS RECORDED IN VOLUME 70, PAGE 28 OF CUYAHOGA COUNTY MAP RECORDS; SAID SUBLOTS TOGETHER FORMING A PARCEL OF LAND HAVING FRONTAGE OF 85.00 FEET ON THE NORTHERLY SIDE OF BROOK PARK ROAD SW., AND EXTENDING BACK BETWEEN PARALLEL LINES OF EQUAL DEPTH 117.82 FEET AND HAVING A REAR LINE OF 85.00 FEET; THE WEST LINE OF SAID SUBLOT NO. 159 BEING ALSO THE EASTERLY LINE OF WEST 191ST STREET.

PARCEL NO. 29

SITUATED IN THE CITY OF CLEVELAND, COUNTY OF CUYAHOGA AND STATE OF OHIO: AND KNOWN AS BEING ALL OF SUBLOTS NOS. 155, 156, 157 IN THE VAN DE BOE-HAGER COMPANY'S WEST LAWN SUBDIVISION, OF PART OF ORIGINAL ROCKPORT TOWNSHIP SECTIONS 3 AND 4, AS RECORDED IN VOLUME 70, PAGE 28 OF CUYAHOGA COUNTY MAP RECORDS; SAID SUBLOTS EACH HAVING A FRONTAGE OF 40.00 FEET ON THE NORTHERLY SIDE OF BROOKPARK ROAD SW., AND EXTENDING BACK BETWEEN PARALLEL LINES OF EQUAL DEPTH 117.82 FEET AND HAVING A REAR LINE OF 40.00 FEET, AS APPEARS BY SAID PLAT.

PARCEL NO. 30

SITUATED IN THE CITY OF CLEVELAND, COUNTY OF CUYAHOGA AND STATE OF OHIO: AND KNOWN AS BEING ALL OF SUBLOT NO. 154 IN THE VAN DE BOE-HAGER COMPANY'S WEST LAWN SUBDIVISION, OF PART OF ORIGINAL ROCKPORT TOWNSHIP SECTIONS 3 AND 4, AS RECORDED IN VOLUME 70, PAGE 28 OF CUYAHOGA COUNTY MAP RECORDS; SAID SUBLOT NO. 154 HAVING A FRONTAGE OF 43.50 FEET ON THE NORTHERLY SIDE OF BROOK PARK ROAD SW., AND EXTENDING BACK BETWEEN PARALLEL LINES OF EQUAL DEPTH, 117.82 FEET AND HAVING A REAR LINE OF 43.50 FEET.

PARCEL NO. 31

SITUATED IN THE CITY OF CLEVELAND, COUNTY OF CUYAHOGA AND STATE OF OHIO: AND KNOWN AS BEING SUB-LOT NO. 31 IN THE VAN DE BOE HAGER COMPANY'S WEST LAWN SUBDIVISION OF PART OF ORIGINAL ROCKPORT TOWNSHIP SECTIONS NOS. 3 AND 4, AS SHOWN BY THE RECORDED PLAT OF SAID SUBDIVISION IN VOLUME 70 OF MAPS, PAGE 28 OF CUYAHOGA COUNTY RECORDS AND BEING 40 FEET FRONT ON THE NORTHERLY SIDE OF WEST LAWN AVE. SW., AND EXTENDS BACK BETWEEN PARALLEL LINES 112 FEET, AS APPEARS BY SAID PLAT. EXCEPTING THEREFROM THE ABOVE DESCRIBED PREMISES, THAT PORTION OF THE PROPERTY CONVEYED TO THE STATE OF OHIO BY DEED DATED 1/20/1970 AND RECORDED 1/21/1970 IN VOL. 12585, PAGE 339 OF CUYAHOGA COUNTY RECORDS.

PARCEL NO. 32

SITUATED IN THE CITY OF CLEVELAND, COUNTY OF CUYAHOGA AND STATE OF OHIO: AND KNOWN AS BEING ALL OF SUBLOTS NO. 32 IN THE VAN DE BOE-HAGER COMPANY'S WEST LAWN SUBDIVISION OF PART OF ORIGINAL ROCKPORT TOWNSHIP SECTIONS 3 AND 4, AS RECORDED IN VOLUME 70, PAGE 28 OF CUYAHOGA COUNTY MAP RECORDS; HAVING A FRONTAGE OF 40.00 FEET ON THE NORTHERLY SIDE OF WEST LAWN AVENUE SW., AND EXTENDING BACK BETWEEN PARALLEL LINES OF EQUAL DEPTH 112.00 FEET AND HAVING A REAR LINE OF 40.00 FEET. EXCEPTING THEREFROM THE ABOVE DESCRIBED PREMISES, THAT PORTION OF THE PROPERTY CONVEYED TO THE STATE OF OHIO BY DEED DATED 1/20/1970 AND RECORDED 1/21/1970 IN VOL. 12585, PAGE 339 OF CUYAHOGA COUNTY RECORDS.

PARCEL NO. 33

SITUATED IN THE CITY OF CLEVELAND, COUNTY OF CUYAHOGA AND STATE OF OHIO: AND KNOWN AS BEING SUB-LOT NO. 33 IN THE VAN DE BOE HAGER COMPANY'S WEST LAWN SUBDIVISION OF PART OF ORIGINAL ROCKPORT TOWNSHIP SECTIONS NOS. 3 AND 4, AS SHOWN BY THE RECORDED PLAT OF SAID SUBDIVISION IN VOLUME 70 OF MAPS, PAGE 28 OF CUYAHOGA COUNTY RECORDS, AND BEING 40 FEET FRONT ON THE NORTHERLY SIDE OF WEST LAWN AVENUE SW., AND EXTENDING BACK OF EQUAL WIDTH 112 FEET, AS APPEARS BY SAID PLAT. EXCEPTING THEREFROM THE ABOVE DESCRIBED PREMISES, THAT PORTION OF THE PROPERTY CONVEYED TO THE STATE OF OHIO BY DEED DATED 1/20/1970 AND RECORDED 1/21/1970 IN VOL. 12585, PAGE 339 OF CUYAHOGA COUNTY RECORDS.

PARCEL NO. 34

SITUATED IN THE CITY OF CLEVELAND, COUNTY OF CUYAHOGA AND STATE OF OHIO: AND KNOWN AS BEING ALL OF SUBLOT NO. 34 IN THE VAN DEBOE HAGER COMPANY'S WEST LAWN SUBDIVISION OF PART OF ORIGINAL ROCKPORT TOWNSHIP SECTIONS 3 AND 4, AS RECORDED IN VOLUME 70, PAGE 28 OF CUYAHOGA COUNTY MAP RECORDS; SAID SUBLOT HAVING A FRONTAGE OF 40.00 FEET ON THE NORTHERLY SIDE OF WEST LAWN AVENUE SW. AND EXTENDING BACK BETWEEN PARALLEL LINES OF EQUAL DEPTH 112.00 FEET AND HAVING A REAR LINE OF 40.00 FEET. EXCEPTING THEREFROM THE ABOVE DESCRIBED PREMISES, THAT PORTION OF THE PROPERTY CONVEYED TO THE STATE OF OHIO BY DEED DATED 1/20/1970 AND RECORDED 1/21/1970 IN VOL. 12585, PAGE 339 OF CUYAHOGA COUNTY RECORDS.

PARCEL NO. 35

SITUATED IN THE CITY OF CLEVELAND, COUNTY OF CUYAHOGA AND STATE OF OHIO: AND KNOWN AS BEING ALL OF SUBLOT NO. 37 IN THE VAN DEBOE HAGER COMPANY'S WEST LAWN SUBDIVISION OF PART OF ORIGINAL ROCKPORT TOWNSHIP, SECTIONS NOS. 3 AND 4, AS RECORDED IN VOLUME 70, PAGE 28 OF CUYAHOGA COUNTY RECORDS; SAID SUBLOT HAVING A FRONTAGE OF 40.00 FEET ON THE NORTHERLY SIDE OF WEST LAWN AVE. SW., (45 FEET WIDE) AND EXTENDING BACK BETWEEN PARALLEL LINES OF EQUAL DEPTH 112.00 FEET.

EXCEPTING THEREFROM THE ABOVE DESCRIBED PREMISES, THAT PORTION OF THE PROPERTY CONVEYED TO THE STATE OF OHIO BY DEED DATED 1/20/1970 AND RECORDED 1/21/1970 IN VOL. 12585, PAGE 339 OF CUYAHOGA COUNTY RECORDS.

PARCEL NO. 36

THAT PORTION OF WEST LAWN AVENUE, SW. AND WEST 191ST STREET AS SHOWN BY THE VACATION PLATS IN VOLUME 195 OF MAPS, PAGE 75 AND VOLUME 217 OF MAPS, PAGE 57 OF CUYAHOGA COUNTY RECORDS. EXCEPTING THEREFROM ANY OF THE PREVIOUSLY DESCRIBED PARCELS OF LAND, ANY PORTION THEREOF WITHIN THE BOUNDS OF RELOCATED BROOKPARK ROAD, AS SHOWN IN CENTERLINE SURVEY PLAT IN VOLUME 313 OF MAPS, PAGES 97, 98 AND 99 OF CUYAHOGA COUNTY RECORDS.

PARCEL NO. 37

SITUATED IN THE CITY OF CLEVELAND, COUNTY OF CUYAHOGA AND STATE OF OHIO AND KNOWN AS BEING PART OF ORIGINAL ROCKPORT SECTION 3, BOUNDED AND DESCRIBED AS FOLLOWS: BEGINNING AT A STONE MONUMENT IN THE CENTERLINE OF ROCKY RIVER DRIVE SW. AT ITS INTERSECTION WITH THE SOUTHERLY LINE OF SAID SECTION NO. 3 (WHICH IS ALSO THE CENTERLINE OF BROOKPARK ROAD SW.); THENCE NORTHEASTERLY ALONG THE CENTERLINE OF ROCKY RIVER DRIVE SW. 175 FEET; THENCE EASTERLY PARALLEL WITH SAID SOUTHERLY LINE OF SAID SECTION, 237.72 FEET; THENCE SOUTHERLY AT RIGHT ANGLES TO THE LAST DESCRIBED LINE, 159.24 FEET TO THE SOUTHERLY LINE OF SAID SECTION; THENCE WESTERLY ON SAID SOUTHERLY LINE, 309.38 FEET TO THE PLACE OF BEGINNING AND CONTAINING ONE ACRE OF LAND.

EXCEPTION PARCELS

EXCEPTING THEREFROM PARCEL NO. 592 WL-1 (HIGHWAY) AND PARCEL NO. 592 WL-2 (HIGHWAY) APPROPRIATED BY THE STATE OF OHIO AND DESCRIBED IN THE JOURNAL ENTRY ON VERDICT FILED FOR RECORD JANUARY 20, 1970 AND RECORDED IN VOLUME 12585, PAGE 519 OF CUYAHOGA COUNTY RECORDS DESCRIBED AS FOLLOWS: PARCEL NO. 592 WL-1 (HIGHWAY) SITUATED IN THE CITY OF CLEVELAND, COUNTY OF CUYAHOGA, AND STATE OF OHIO, AND BEING, PART OF ORIGINAL ROCKPORT TOWNSHIP, SECTION NO. 3 AND BOUNDED AND DESCRIBED AS FOLLOWS: BEGINNING AT A STONE MONUMENT IN THE CENTERLINE OF ROCKY RIVER DRIVE (70 FEET WIDE) AT ITS INTERSECTION WITH THE SOUTHERLY LINE OF SAID ORIGINAL ROCKPORT TOWNSHIP SECTION NO. 3, WHICH IS ALSO THE CONSTRUCTION BASE LINE OF BROOKPARK ROAD (S.R. 17); THENCE NORTH 24 DEGREES 58 MINUTES 22 SECONDS EAST 175.00 FEET ALONG THE SAID CENTERLINE OF ROCKY RIVER DRIVE (70 FEET WIDE) TO A POINT, SAID POINT BEING OWNERS' NORTHEASTERLY PROPERTY CORNER; THENCE SOUTH 89 DEGREES 38 MINUTES 58 SECONDS EAST 230.72 FEET ALONG THE SAID OWNERS' NORTHERLY PROPERTY LINE TO A POINT BEING 365.73 FEET RIGHT OF STATION 443 PLUS 66.41 OF INTERSTATE 80 CENTERLINE AND, THE PRINCIPAL PLACE OF BEGINNING; THENCE SOUTH 89 DEGREES 38 MINUTES 58 SECONDS EAST 7.00 FEET CONTINUING ALONG SAID OWNERS' NORTHERLY PROPERTY LINE TO A POINT, SAID POINT BEING OWNERS' NORTHEASTERLY PROPERTY CORNER; THENCE SOUTH 00 DEGREES 30 MINUTES 02 SECONDS WEST 60.00 FEET ALONG SAID OWNERS' EASTERLY PROPERTY LINE TO A POINT; THENCE NORTH 06 DEGREES 09 MINUTES 59 SECONDS WEST 60.39 FEET TO THE PRINCIPAL PLACE OF BEGINNING, CONTAINING 210 SQUARE FEET, MORE OR LESS, EXCLUSIVE OF ALL LEGAL HIGHWAYS. TOGETHER WITH ALL RIGHTS OR EASEMENTS OF ACCESS TO OR FROM SAID LIMITED ACCESS HIGHWAY, FROM OR TO THE LAND OF SAID PERSONS ABUTTING UPON THAT PORTION OF SAID LIMITED ACCESS HIGHWAY, AS SHOWN BY THE PLANS OF SAID IMPROVEMENT HEREIN REFERRED TO. DESCRIPTION FOR THE ABOVE PARCELS IS BASED ON A SURVEY MADE BY NORMAN H. WILKE, REGISTERED SURVEYOR NO. 598.

PARCEL NO. 592 WL-2 (HIGHWAY)

BEGINNING AT A STONE MONUMENT IN THE CENTERLINE OF ROCKY RIVER DRIVE (70 FEET WIDE) AT ITS INTERSECTION WITH THE SOUTHERLY LINE OF SAID ORIGINAL ROCKPORT TOWNSHIP SECTION 3, WHICH IS ALSO THE CONSTRUCTION BASE LINE OF BROOKPARK ROAD (S.R. 17); THENCE SOUTH 89 DEGREES 29 MINUTES 58 SECONDS EAST 90.00 FEET ALONG THE SAID NORTHERLY LINE OF BROOKPARK ROAD (100 FEET WIDE) TO A POINT; THENCE NORTH 60 DEGREES 57 MINUTES 36 SECONDS EAST 34.48 FEET TO A POINT, SAID POINT BEING ON OWNERS' EASTERLY PROPERTY LINE; THENCE SOUTH 00 DEGREES 30 MINUTES 02 SECONDS WEST 17.00 FEET ALONG THE SAID OWNERS' EASTERLY PROPERTY LINE TO A POINT, SAID POINT BEING ON THE NORTHERLY LINE OF BROOKPARK ROAD (100 FEET WIDE); THENCE SOUTH 00 DEGREES 30 MINUTES 02 SECONDS WEST 30.00 FEET CONTINUING ALONG SAID OWNERS' EASTERLY PROPERTY LINE TO A POINT, SAID POINT BEING ON THE CONSTRUCTION BASE LINE OF BROOKPARK ROAD (S.R. 17), WHICH IS ALSO THE SOUTHERLY LINE OF ORIGINAL ROCKPORT TOWNSHIP SECTION NO. 3 AS AFORESAID; THENCE NORTH 89 DEGREES 29 MINUTES 58 SECONDS WEST 122.92 FEET ALONG THE SAID CONSTRUCTION BASE LINE OF BROOKPARK ROAD (S.R. 17) TO THE PRINCIPAL PLACE OF BEGINNING, CONTAINING 255 SQUARE FEET, MORE OR LESS EXCLUSIVE OF THE PRESENT ROAD WHICH OCCUPIES 3,644 SQUARE FEET, MORE OR LESS. TOGETHER WITH ALL RIGHTS OR EASEMENTS OF ACCESS TO OR FROM SAID LIMITED ACCESS HIGHWAY, FROM OR TO THE LAND OF SAID PERSONS ABUTTING UPON THAT PORTION OF SAID LIMITED ACCESS HIGHWAYS, AS SHOWN BY THE PLANS OF SAID IMPROVEMENT HEREIN REFERRED TO. DESCRIPTION FOR THE ABOVE PARCEL IS BASED ON NORMAN M. WILKE, REGISTERED SURVEYOR NO. 598.

This property contains approximately 2.54 acres.

Issued in Romulus, Michigan, on March 28, 2014.
John L. Mayfield, Jr.,
Manager, Detroit Airports District Office, FAA, Great Lakes Region.

[FR Doc. 2014-08111 Filed 4-9-14; 8:45 am]

BILLING CODE 4910-13-P